DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Lackawanna County Railroad Authority (“LCRA”) (Supplement and Extension to Waiver Docket Number FRA-2000-7275)

As a supplement to Lackawanna County Railroad Authority's (LCRA) Petition for Approval of Shared Use and Waiver of Certain FRA Regulations (the original shared use waiver was granted by the FRA Railroad Safety Board on November 24, 2000, and a six month extension was granted by the FRA Railroad Safety Board on April 7, 2006). LCRA seeks a permanent waiver of compliance from an additional section of Title 49 of the CFR, specifically part 240, Qualification and Certification of Locomotive Engineers, part 229.129 FRA Horn Rule: Audible Warning Devices. LCRA also seeks a five year extension of this amended shared use waiver for continued safe operation of its historic light rail trolley operations on shared trackage with the general railroad system of transportation (Delaware-Lackawanna Railroad).

LCRA is including in this modified waiver request four route miles added to the historic trolley excursion since 2002, and is informing the FRA of the upcoming 1870 feet trolley route extension from its current terminus at VC Station (VC Stub Switch MP 4.78) to the newly constructed Historic Trolley Maintenance Building (this portion will be used exclusively by trolleys). LCRA submits that this request is consistent with the waiver process for Shared Use. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

LCRA operates the historic “Lackawanna County Electric Trolley Station and Museum” light rail operation that is connected to the general railroad system of transportation. The original waiver was granted for the initial 1.2 mile operation over the Brady Line and Scranton Yard in Scranton, PA. Freight and light rail operations are temporally separated on this portion of track. In 2002 and in 2004, a total of four additional route miles were added to this excursion operation, terminating at SS VC MP 4.81. LCRA is requesting a waiver from CFR part 240 because qualification for trolley Motormen is governed by the Delaware-Lackawanna's “Trolley Motorman Certification Program.” As per the new FRA Horn Rule, LCRA seeks relief from CFR 229.129 due to the historically accurate nature of the equipment and its inability to reach the minimum decibel level required by this rule. (Section 229.129(d) clearly excepts locomotives of rapid transit operations, notwithstanding preamble discussion in the final rule to the contrary; accordingly this portion of the request for relief will be dismissed and comment is not requested on this aspect of the request for relief.).

LCRA states that all trolley movements over the three public highway-rail grade crossings on the route of the Historic Trolley will comply with the requirements of the FRA Horn Rule, CFR part 222. Although the new 1870 feet extension will not feature shared use operation and will be used exclusively by trolleys, LCRA voluntarily entered agreement to have the Delaware-Lackawanna Railroad provide all railroad related maintenance services on this extension (track, signal, highway-grade crossing appurtenances, etc), in accordance with FRA standards.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-2000-7275) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on May 3, 2006
Grady C. Cothen, Jr.,
Deputy Associate Administrator for Safety Standards and Program Development.

[FR Doc. E6-7050 Filed 5-8-06; 8:45 am]

BILLING CODE 4910-06-P